DEPARTMENT OF JUSTICE

Antitrust Division

Notice Pursuant to the National Cooperative Research and Production Act of 1993—Allseen Alliance,Inc.

Notice is hereby given that, on April 16, 2014, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, AT&T Services (on behalf of itself and its affiliates), Atlanta, GA; Audio Partnership Plc, London, UNITED KINGDOM; Beechwoods Software, Inc., Boston, MA; Beijing Winner Micro Electronics Co., Ltd., Haidian District, Beijing, PEOPLE'S REPUBLIC OF CHINA; CA Engineering, Draper, UT; EXO U Inc., Montreal, Quebec, CANADA; Guangdong Pisen Electronics Co., Ltd., Longgang District, Shenzhen City, PEOPLE'S REPUBLIC OF CHINA; Imagination Technologies, Sunnyvale, CA; Kii Corporation, Minato-ku, Tokyo, JAPAN; Lets GOWEX S.A., Madrid, SPAIN; Patavina Technologies s.r.l., Padova, ITALY; Qeo LLC, Indianapolis, IN; Two Bulls LLC, Brooklyn, NY; and Vestel Elektronik Sanayi ve Ticaret A.S., Manisan, TURKEY, have been added as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

Patricia A. Brink,
Director of Civil Enforcement, Antitrust Division.

[FR Doc. 2014-11333 Filed 5-15-14; 8:45 am]

BILLING CODE P